DEPARTMENT OF ENERGY

Federal Energy Regulatory Commission

[Project No. 14883-000]

Tenn-Tom Hydro, LLC; Notice of Preliminary Permit Application Accepted for Filing and Soliciting Comments, Motions To Intervene, and Competing Applications

On July 5, 2018, Tenn-Tom Hydro, LLC, filed an application for a preliminary permit, pursuant to section 4(f) of the Federal Power Act (FPA), proposing to study the feasibility of the Aberdeen Hydropower Project (Aberdeen Project or project) to be located at the U.S. Army Corps of Engineers' (Corps) Aberdeen Lock and Dam on the Tennessee-Tombigbee Waterway, in Monroe County, Mississippi. The sole purpose of a preliminary permit, if issued, is to grant the permit holder priority to file a license application during the permit term. A preliminary permit does not authorize the permit holder to perform any land-disturbing activities or otherwise enter upon lands or waters owned by others without the owners' express permission.

The proposed project would consist of the following: (1) A cylindrical intake structure in each of the three existing gated spillways sections, on the eastern end of the dam; (2) four proprietary shaped penstocks with run underneath each of the existing three Corps' spillway gates; (3) four submerged generating units, below each spillway section for a total of twelve units, with a total combined capacity of 4.8 megawatts; (4) a 50-foot-long, 50-foot-wide control building with switchyard on the dam's east abutment; (5) a 0.8 mile-long transmission line. The proposed project would have an estimated average annual generation of 32,000 megawatt-hours, and operate run-of-river utilizing surplus water from the Aberdeen Lock & Dam, as directed by the Corps.

Applicant Contact: Mr. Jeremy Wells, Wells Engineering, LLC, 101 Yearwood Drive, Macon, Georgia 31206; phone: (478) 238-3054.

FERC Contact: Michael Spencer, (202) 502-6093, michael.spencer@ferc.gov

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14883-000.

More information about this project, including a copy of the application, can be viewed or printed on the “eLibrary” link of Commission's website at http://www.ferc.gov/docs-filing/elibrary.asp. Enter the docket number (P-14883) in the docket number field to access the document. For assistance, contact FERC Online Support.

Dated: October 19, 2018.
Nathaniel J. Davis, Sr.,
Deputy Secretary.

[FR Doc. 2018-23442 Filed 10-25-18; 8:45 am]

BILLING CODE 6717-01-P